DEPARTMENT OF AGRICULTURE

Federal Crop Insurance Corporation

Funding Opportunity Title: Crop Insurance Education in Targeted States (Targeted States Program)

Announcement Type: Modification—Competitive Cooperative Agreements

This announcement modifies the Request for Application Notice published in the Federal Register, January 22, 2008 (Vol. 73, No. 14, Pages 3681—3688). The Dates, Summary, and Further Information Contact portions have been modified.

CFDA Number: 10.458.

DATES: Applications are due by 5 p.m. EDT, June 12, 2008.

SUMMARY: The following paragraph has been added to the beginning of the Summary portion of the January 22, 2008, Federal Register Notice: The Risk Management Agency (RMA) did not receive complete and valid application packages for the State of Delaware under the original Request for Application Notice published in the Federal Register on January 22, 2008, for the Crop Insurance Education in Targeted States Program (Targeted States Program). RMA is re-announcing its Funding Opportunity—Request for Applications under the Targeted States Program for the State of Delaware. Applicants who previously submitted an application under the January 22, 2008, Targeted States Program Request for Applications Notice for Delaware must reapply in accordance with the original Notice published in the Federal Register on January 22, 2008.

All other portions and sections of the full text Notice remain unchanged.

FOR FURTHER INFORMATION CONTACT: Applicants and other interested parties are encouraged to contact: Michelle Fuller, USDA-RMA-RME, phone: 202-720-6356, fax: 202-690-3605, e-mail: RMA.Risk-Ed@rma.usda.gov. You may also obtain information regarding this announcement from the RMA Web site at: http://www.rma.usda.gov/aboutrma/agreements/.

Signed in Washington, DC, on May 21, 2008.
Eldon Gould,
Manager, Federal Crop Insurance Corporation.

[FR Doc. E8-11810 Filed 5-27-08; 8:45 am]

BILLING CODE 3410-08-P